DEPARTMENT OF LABOR

Employment and Training Administration

[TA-W-54,082]

Fountain Construction Company, Inc., Assembly Board Tooling Division, Jackson, MS; Notice of Negative Determination on Reconsideration

On April 23, 2004, the Department issued an Affirmative Determination Regarding Application for Reconsideration for the workers and former workers of the subject firm. The notice was published in the Federal Register on May 10, 2004 (69 FR 25926). The subject worker group produces assembly board tooling which is used to produce wire harnesses.

The Department denied the initial petition because the “contributed importantly” and shift of production group eligibility requirements of section 222(3) of the Trade Act of 1974, as amended, were not met. The initial investigation revealed that during the relevant time period, the subject company neither increased imports of assembly board tooling nor shifted production abroad. A survey of the subject company's major declining customer revealed decreased imports of assembly board tooling during the relevant time period.

In the request for reconsideration, the company asserted that because its major customer shifted wire harness production to Mexico, the subject worker group is eligible for Trade Adjustment Assistance.

During the reconsideration investigation, the Department contacted the subject company to clarify the relationship between assembly board tooling and wire harnesses and contacted the major customer to inquire about imports of assembly board tooling.

The subject company official explained that the assembly board tooling consists of assembly boards mounted on a conveyor system. Assembly boards are boards with pegs arranged in a specific pattern on it. The assembly boards sit on an apparatus that moves them from station to station. At various stations, wires are wrapped around them in a particular fashion, the wires are taped to maintain the configuration, and the taped units (wire harnesses) are pulled off the assembly board.

A review of the material revealed that neither the subject company nor the major customer increased imports or shifted production of assembly board tooling during the relevant period.

In order for the subject worker group to be considered eligible to apply for TAA benefits as secondarily-impacted, the subject firm must have customers that are TAA certified and these TAA certified customers would represent a significant portion of the subject company's business. In addition, the subject company would have to either produce a component part of the product that was the basis for the customer's certification or act as a downstream producer (assembling or finishing) of the product that was the basis for that certification.

In the case at hand, the subject company does not produce a component part of the wire harnesses and is not an assembler or finisher of wire harnesses. Although assembly board tooling is used to produce wire harnesses, it is not incorporated into the wire harnesses. Therefore, the subject company is not considered to be an upstream supplier to the major customer. Because the subject worker group assemblies the boards and neither assembles nor finishes the wire harnesses, the subject company is not considered a downstream producer of wire harnesses.

Conclusion

After reconsideration, I affirm the original notice of negative determination of eligibility to apply for worker adjustment assistance for workers and former workers of Fountain Construction Company, Inc., Assembly Board Tooling Division, Jackson, Mississippi.

Signed in Washington, DC, this 4th day of June, 2004.
Elliott S. Kushner,
Certifying Officer, Division of Trade Adjustment Assistance.

[FR Doc. 04-13541 Filed 6-15-04; 8:45 am]

BILLING CODE 4510-30-M